COMMITTEE FOR PURCHASE FROM PEOPLE WHO ARE BLIND OR SEVERELY DISABLED

Procurement List; Proposed Additions and Deletions

AGENCY: Committee for Purchase From People Who Are Blind or Severely Disabled.

ACTION: Proposed additions to and deletions from procurement list.

SUMMARY: The Committee has received proposals to add to the Procurement List commodities and services to be furnished by nonprofit agencies employing persons who are blind or have other severe disabilities, and to delete commodities and services previously furnished by such agencies.

COMMENTS MUST BE RECEIVED ON OR BEFORE: May 1, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed additions, all entities of the Federal Government (except as otherwise indicated) will be required to procure the commodities and services listed below from nonprofit agencies employing persons who are blind or have other severe disabilities. I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

Fossfill Pillows, M.R. 770, M.R. 771, M.R. 772, NPA: Raleigh Lions Clinic for the Blind, Inc., Raleigh, North Carolina.

Sac Saver, M.R. 1010, NPA: Signature Works, Inc., Hazlehurst, Mississippi.

Blanket Set, Bed, 6545-00-911-1300, NPA: Ontario County Chapter, NYSARC Abbey Industries, Canandaigua, New York.

First Aid Kit, Gun Crew, 6545-00-920-7125, NPA: Ontario County Chapter, NYSARC Abbey Industries, Canandaigua, New York.

First Aid Kit, Small Craft 6545-00-168-6893 NPA: Ontario County, Chapter, NYSARC Abbey Industries, Canandaigua, New York.

Medical Equipment, 6545-01-191-8970, NPA: Ontario County Chapter, NYSARC Abbey Industries, Canandaigua, New York.

Medical Equipment, 6545-01-191-8971, NPA: Ontario County Chapter, NYSARC Abbey Industries, Canandaigua, New York.

Medical Equipment Set, Ground Ambulance, 6545-01-141-9476, NPA: Ontario County Chapter, NYSARC Abbey Industries, Canandaigua, New York.

Medical Equipment Set, Trauma, Field, 6545-01-191-8972, NPA: Ontario County Chapter, NYSARC Abbey Industries, Canandaigua, New York.

Field Pack, Firefighters, 8465-01-169-3996, NPA: Helena Industries, Inc., Helena, Montana.

Services

Janitorial/Custodial, Veterans Affairs Outpatient Clinic, 3420 Veterans Circle, Beaumont, Texas, NPA: Statewide Consolidated Community Development Corporation, Inc., Beaumont, Texas.

Janitorial/Custodial, Naval and Marine Corps Reserve Center, Fort Douglas, 116 Pollock Road, Salt Lake City, Utah, NPA: Community Foundation for the Disabled, Inc., Salt Lake City, Utah.

Deletions

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following commodities and services have been proposed for deletion from the Procurement List:

Commodities

Cleaning Compound, Windshield, 6850-00-926-2275.

Cleaning Compound, Rug and Upholstery, 7930-00-113-1913, 7930-01-393-6762, 7930-01-393-6757.

Trousers, Men's, Medical Assistant, 8405-00-110-8290, 8405-00-110-8291, 8405-00-110-8292, 8405-00-110-8293,8405-00-110-8294,8405-00-110-8295,8405-00-110-8296,8405-00-110-8297,8405-00-110-8298,8405-00-110-8299,8405-00-110-8301,8405-00-110-8302,8405-00-110-9468,8405-00-110-9469,8405-00-110-9470,8405-00-110-9471,8405-00-110-9472,8405-00-110-9473,8405-00-110-9474,8405-00-110-9475,8405-00-110-9476,8405-00-110-9477,8405-00-110-9478,8405-00-110-9479,8405-00-110-9480,8405-00-110-9481,8405-00-110-9482,8405-00-110-9483,8405-00-110-9484,8405-00-110-9485,8405-00-110-9486,8405-00-110-9487,8405-00-110-9488,8405-00-110-9489,8405-00-110-9490,8405-00-110-9697, 8405-00-113-5418,8405-00-008-8848.

Services

Administrative Services, Defense Reutilization and Marketing Office, Sheppard Building, Sheppard Air Force Base, Texas.

Food Service Attendant, Keyport Naval Undersea Warfare Center, Building 35, Keyport, Washington.

Janitorial/Custodial, U.S. Courthouse, 500 State Avenue, Kansas City, Kansas.

Janitorial/Custodial, Federal Building, 500 Quarrier Street, Charleston, West Virginia.

Mail and Messenger Service, U.S. Army Garrison-Fitzsimons, Aurora, Colorado.

Restocking Parts, Kelly Air Force Base, Texas.

Scrap Breakdown, Defense Reutilization and Marketing Office, Kelly Air Force Base, Texas.

Louis R. Bartalot,
Deputy Director (Operations).

[FR Doc. 00-7991 Filed 3-30-00; 8:45 am]

BILLING CODE 6353-01-P